FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 11, 2000.

A. Federal Reserve Bank of Richmond (A. Linwood Gill, III, Vice President) 701 East Byrd Street, Richmond, Virginia 23261-4528:

1. Thomas Family; Candice Elaine Maddox, Pickerington, Ohio; Alan Paul Thomas, Bruceton Mills, West Virginia; Brandon Lowell Thomas, Bruceton Mills, West Virginia; Brian Fike Thomas, Morgantown, West Virginia; Chase Fike Thomas, Morgantown, West Virginia; Corissa Blair Thomas, Morgantown, West Virginia; David Martin Thomas, Morgantown, West Virginia; Gregory Clark Thomas, Bruceton Mills, West Virginia; Jeffrey Ward Thomas, Bruceton Mills, West Virginia; Laura Kay Thomas, Morgantown, West Virginia; Mary Feather Thomas, Bruceton Mills, West Virginia; Melinda Jean Thomas, Bruceton Mills, West Virginia; Phyllis Jean Thomas, Bruceton Mills, West Virginia; Ward Fike Thomas, Bruceton Mills, West Virginia; to retain voting shares of State Bancorp, Inc., Bruceton Mills, West Virginia, and thereby indirectly retain voting shares of Bruceton Bank, Bruceton Mills, West Virginia, and Terra Alta Bank, Terra Alta, West Virginia.

B. Federal Reserve Bank of Kansas City (D. Michael Manies, Assistant Vice President) 925 Grand Avenue, Kansas City, Missouri 64198-0001:

1. David R. and Norvelle Dickey, Oklahoma City, Oklahoma; to acquire voting shares of First Thomas Ban Corp, Thomas, Oklahoma, and thereby indirectly acquire voting shares of First National Bank of Thomas, Thomas, Oklahoma.

Board of Governors of the Federal Reserve System, June 21, 2000.
Jennifer J. Johnson,
Secretary of the Board.

[FR Doc. 00-16161 Filed 6-26-00; 8:45 am]

BILLING CODE 6210-01-P